DEPARTMENT OF COMMERCE

National Oceanic and Atmospheric Administration

RIN 0648-XA226

Mid-Atlantic Fishery Management Council; Public Meeting

AGENCY: National Marine Fisheries Service (NMFS), National Oceanic and Atmospheric Administration (NOAA), Commerce.

ACTION: Notice of public meeting.

SUMMARY: The Social and Economic Sub-Committee of the Mid-Atlantic Fishery Management Council's (Council) Scientific and Statistical Committee (SSC) will meet with the Council's Atlantic Mackerel, Squid and Butterfish Industry Advisory Panel (AP).

DATES: The meeting will be held on Tuesday, March 8, 2011, from 10 a.m. to 5 p.m.

ADDRESSES: The meeting will be held at Four Points Sheraton, 7032 Elm Road, Baltimore, MD 21240; telephone: (410) 859-3000.

Council address: Mid-Atlantic Fishery Management Council, 800 N. State Street, Suite 201, Dover, DE 19901; telephone: (302) 674-2331.

FOR FURTHER INFORMATION CONTACT: Christopher M. Moore, PhD, Executive Director, Mid-Atlantic Fishery Management Council, 800 N. State Street, Suite 201, Dover, DE 19901; telephone: (302) 526-5255.

SUPPLEMENTARY INFORMATION: The Council is considering a strategy that would allow for input from its Industry Advisory Panels in advance of SSC meetings where ABC recommendations are made. The vehicle of input the Council is considering is an Industry Advisory Panel Performance Report that details industry perspective on various factors which influence catch and effort in a given fishery in the previous year(s). The Council anticipates that this process will afford the industry an opportunity to offer their perspective on factors influencing abundance, availability, fishing effort, catch, etc. The purpose of the meeting is to allow for joint discussion among the SSC Economic and Social Subcommittee and industry advisors concerning development of an AP Performance Report.

Although non-emergency issues not contained in this agenda may come before this group for discussion, those issues may not be the subject of formal action during this meeting. Action will be restricted to those issues specifically listed in this notice and any issues arising after publication of this notice that require emergency action under section 305(c) of the Magnuson-Stevens Fishery Conservation and Management Act, provided the public has been notified of the Council's intent to take final action to address the emergency.

Special Accommodations

The meeting is physically accessible to people with disabilities. Requests for sign language interpretation or other auxiliary aids should be directed to M. Jan Saunders at the Mid-Atlantic Council Office (302) 526-5251 at least 5 days prior to the meeting date.

Dated: February 14, 2011.
Tracey L. Thompson,
Acting Director, Office of Sustainable Fisheries, National Marine Fisheries Service.

[FR Doc. 2011-3668 Filed 2-17-11; 8:45 am]

BILLING CODE 3510-22-P